INTERNATIONAL TRADE COMMISSION

[Investigation No. 1205-9]

Certain Festive Articles: Recommendations for Modifying the Harmonized Tariff Schedule of the United States

AGENCY: United States International Trade Commission.

ACTION: Change in date for transmitting recommendations to the President.

SUMMARY: The Commission has changed the date on which it intends to report its recommendations to the President in this matter from November 29, 2010, to December 13, 2010, to allow more time to complete the report, including its recommendations.

DATES: December 13, 2010: Transmittal of recommendations to the President.

ADDRESSES: All Commission offices, including the Commission's hearing rooms, are located in the United States International Trade Commission Building, 500 E Street, SW., Washington, DC. The public record for this collection of proposals may be viewed on the Commission's electronic docket (EDIS) at http://www.usitc.gov/secretary/edis.htm.

FOR FURTHER INFORMATION CONTACT: David Beck, Director, Office of Tariff Affairs and Trade Agreements (202-205-2603, fax 202-205-2616, david.beck@usitc.gov). The media should contact Margaret O'Laughlin, Office of External Affairs (202-205-1819, margaret.olaughlin@usitc.gov). Hearing-impaired individuals may obtain information on this matter by contacting the Commission's TDD terminal at 202-205-1810. General information concerning the Commission may also be obtained by accessing its Internet Web site at http://www.usitc.gov. Persons with mobility impairments who will need special assistance in gaining access to the Commission should contact the Office of the Secretary at 202-205-2000.

Background: Notice of institution of the investigation and opportunity to comment on proposed recommendations was published in the Federal Register on September 20, 2010 (75 FR 57293). The period for filing written submissions closed on October 22, 2010.

Issued: November 24, 2010.
By order of the Commission.
Marilyn R. Abbott,
Secretary to the Commission.

[FR Doc. 2010-30281 Filed 12-1-10; 8:45 am]

BILLING CODE 7020-02-P